DEPARTMENT OF TRANSPORTATION

[Docket No. DOT-OST-2015-0153]

Agency Requests for Approval of a New Information Collection(s): Post-Challenge Year Survey—Mayors' Challenge for Safer People and Safer Streets

AGENCY: Office of the Secretary of Transportation, Department of Transportation.

ACTION: Notice and request for comments.

SUMMARY: The Department of Transportation (DOT) invites public comments about our intention to request the Office of Management and Budget (OMB) approval for a new information collection.

DATES: Written comments should be submitted by October 5, 2015.

ADDRESSES: You may submit comments [identified by Docket No. DOT-OST-2015-0153] through one of the following methods:

• Federal eRulemaking Portal: http://www.regulations.gov. Follow the online instructions for submitting comments.

• Fax: 1 (202) 493-2251.

• Mail or Hand Delivery: Docket Management Facility, U.S. Department of Transportation, 1200 New Jersey Avenue SE., West Building, Room W12-140, Washington, DC 20590, between 9 a.m. and 5 p.m., Monday through Friday, except on Federal holidays.

FOR FURTHER INFORMATION CONTACT: Rebecca Higgins, 202-366-7098, Office of Safety, Energy, and Environment, Office of the Secretary, U.S. Department of Transportation, 1200 New Jersey Avenue SE., Washington, DC, 20590.

SUPPLEMENTARY INFORMATION:

OMB Control Number:

Title: Post-Challenge Year Survey—Mayors' Challenge for Safer People and Safer Streets.

Form Numbers:

Type of Review: New Information Collection.

Background: Over 220 cities are voluntarily participating in the “Mayors' Challenge” and through locally-driven efforts they are improving bike/ped safety policies, infrastructure, and awareness. This survey will collect information on the accomplishments of the Mayors' Challenge, and will be used to identify best practices and to improve future DOT outreach to cities. Each city has already identified a point-of-contact for the Mayors' Challenge. This survey will be distributed electronically to these POCs through an online survey tool.

Respondents: The survey will be completed by points-of-contacts identified in the city agencies participating in the Mayors' Challenge.

Number of Respondents: 230 cities have volunteered to participate in the Mayors' Challenge.

Frequency: Once, upon completion of this challenge.

Number of Annual Responses: 1.

Total Annual Hour Burden: 30 minutes/respondent; Cumulative 115 hours.

Total Annual Cost Burden: $3,388 (Based on an assumption that this would be completed by someone at an equivalent to a GS-12 level of seniority, which is $29.46/hour.).

Synopsis of Information Collection

DOT will survey the cities who have volunteered to participate in the Mayors' Challenge for Safer People and Safer Streets about their activities, successes, and obstacles. This information will be used to establish best practices bicycle and pedestrian safety and will identify gaps in data and resources that DOT can provide. The questions include:

1. Which of the seven goals did you adopt, and what activities did you undertake to meet those goals? For reference, the seven goals are:

(1) Take a Complete Streets approach;

(2) Identify and address barriers;

(3) Gather and track data;

(4) Use context-sensitive designs;

(5) Complete bike-ped networks;

(6) Improve laws and regulations; and

(7) Educate and enforce proper road use.

2. What were the primary challenges and obstacles to bicycle and pedestrian safety in your community, and what if any actions did you take to address these challenges and obstacles?

3. What if any changes have resulted from the challenge activities, including changes to physical infrastructure, decision-making processes, policies or procedures, enforcement, and education and awareness of your community?

4. Please use the following table to indicate whether you have data on the impact of the Mayors' Challenge activities, and what the extent of that impact is.

| Data available? (e.g. yes/no, and if yes, type of data) | Extent of impact (e.g. number of bicyclists, compared to previous years)
event attendance
survey results
crash data
walking and bicycle counts
bike lanes, sidewalks, other infrastructure
new plans, policies, laws, or campaigns
other indications of political and community support

5. Which DOT resources, tools, and data were most useful in your challenge?

6. Which non-DOT resources, tools, and data were most useful in your challenge?

7. What resources, tools, and data did you wish were available?

8. What are the most useful formats for receiving information from USDOT, and why (e.g. webinars, in-person meetings, conference calls, etc.)?

9. What efforts in your city to improve bicycle and pedestrian safety in your community were already underway at the time of the Mayors' Challenge? How did the Mayors' Challenge add value and/or help to fill any gaps in your city's efforts to improve bicycle and pedestrian safety?

10. In planning and project delivery of pedestrian and/or bicycle infrastructure projects, to what extent has your city coordinated with your Metropolitan Planning Organization (MPO), Regional Planning Organization (RPO), State Department of Transportation (DOT), and Federal Regional/Division office partners? Please note type of outreach and coordination, and outcomes it led to.

11. What were the key benefits and lessons learned as a result of the Mayors' Challenge?

12. Do you think the Mayors' challenge helped make any permanent changes in pedestrian and bike safety and accommodation in your city/town?

We are required to publish this notice in the Federal Register by the Paperwork Reduction Act of 1995, Public Law 104-13.

Public Comments Invited: You are asked to comment on any aspect of this information collection, including (a) Whether the proposed collection of information is necessary for the Department's performance; (b) the accuracy of the estimated burden; (c) ways for the Department to enhance the quality, utility and clarity of the information collection; and (d) ways that the burden could be minimized without reducing the quality of the collected information. The agency will summarize and/or include your comments in the request for OMB's clearance of this information collection.

Authority: The Paperwork Reduction Act of 1995; 44 U.S.C. chapter 35, as amended; and 49 CFR 1.48.

Issued in Washington, DC, on July 29, 2015.
Barbara McCann,
Director, Office of Safety, Energy, and Environment, Office of Policy, U.S. Department of Transportation.

[FR Doc. 2015-19189 Filed 8-4-15; 8:45 am]

BILLING CODE 4910-9X-P